DEPARTMENT OF THE INTERIOR

National Park Service

Notice of Inventory Completion: U.S. Department of Agriculture, Forest Service, Gila National Forest, Silver City, NM

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Gila National Forest, Silver City, NM. The human remains and associated funerary objects were removed from Catron and Grant Counties, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Gila National Forest professional staff in consultation with representatives of the Hopi Tribe of Arizona; Pueblo of Acoma, New Mexico; and Zuni Tribe of the Zuni Reservation, New Mexico.

In 1935 and 1936, human remains representing two individuals were removed from Starkweather Ruin, Catron County, NM, during legally authorized excavations by Paul H. Nesbitt of Beloit College, Beloit, WI. The human remains and associated funerary objects had been curated at the Logan Museum of Anthropology, Beloit College since their excavation; however, the human remains and funerary objects are presently being transferred to the Forest Supervisor's Office, Gila National Forest. No known individuals were identified. The two associated funerary objects are pottery sherds.

Based on material culture, architecture and site organization, Starkweather Ruin has been identified as an Upland Mogollon pithouse village and pueblo occupied between A.D. 500-1000 and A.D. 1100-1300.

In 1986, human remains representing one individual were removed from the Comanche Springs Site (LA 105121) in Grant County, NM, during legally authorized excavations conducted by the University of Arizona. The human remains have been curated at the Forest Supervisor's Office, Gila National Forest since their removal from the site. No known individual was identified. No associated funerary objects are present.

Based on material culture and site organization, the Comanche Springs Site has been identified as a Mogollon village occupied between A.D. 1000 and 1200.

In 1986, human remains representing one individual were removed from the Eva Faust Site (LA 33704) in Catron County, NM, during legally authorized excavations conducted by Dr. James Neely, University of Texas-Austin. No known individual was identified. No associated funerary objects are present.

Based on material culture and site organization, the Eva Faust Site has been identified as an Upland Mogollon pithouse village with surface rooms that was occupied between A.D. 600 and 1100.

In 1987, human remains representing two individuals were removed from the Diamond Creek Site (AR-03-06-05-214) in Catron County, NM, during archeological excavations conducted by the U.S. Forest Service in conjunction with an investigation under the Archaeological Resources Protection Act (ARPA) of illegal activities at the site. The human remains have been curated at the Forest Supervisor's Office, Gila National Forest since their removal from the site. No known individuals were identified. No associated funerary objects are present.

Based on material culture and site organization, the Diamond Creek Site has been identified as a Mogollon village occupied between A.D. 1000 and 1150.

In July to August 1990, human remains representing one individual were removed from site LA 78983 (Elk Ridge Ruin) in Catron County, NM, during archeological excavations conducted by Human Systems Research (Alamagordo, NM) in conjunction with an investigation under ARPA of illegal activities at the site. The human remains have been curated at the Forest Supervisor's Office, Gila National Forest since their removal from the site. No known individual was identified. No associated funerary objects are present.

Based on material culture and site organization, LA 78983 has been identified as a Mogollon village occupied between A.D. 1000 and 1200.

Continuities between ethnographic materials and technology indicate the affiliation of the above Mogollon sites that are located in west-central New Mexico with the Pueblo of Acoma, New Mexico; Hopi Tribe of Arizona; and Zuni Tribe of the Zuni Reservation, New Mexico. The oral traditions of the Pueblo of Acoma, New Mexico; Hopi Tribe of Arizona; and Zuni Tribe of the Zuni Reservation, New Mexico support the cultural affiliation of these three Indian tribes with Mogollon sites in west-central New Mexico.

In 1966-1967, human remains representing two individuals were removed from site LA 10014 in Catron County, NM, during legally authorized excavations conducted by the U.S. Forest Service. No known individuals were identified. No associated funerary objects are present.

Based on material culture and site organization, LA 10014 has been identified as a Mogollon pithouse village with surface rooms that was occupied between A.D. 600 and 1100.

In January to February 1990, human remains representing four individuals were removed from site LA 66315 in Grant County, NM, during archeological excavations conducted by the U.S. Forest Service in conjunction with an investigation under ARPA of illegal activities at the site. The human remains and associated funerary objects have been curated at the Forest Supervisor's Office, Gila National Forest since their removal from the site. No known individuals were identified. The 120 associated funerary objects are 109 bags of ceramic sherds, chipped stone and groundstone fragments; 9 metates; 1 box of adobe/daub; and 1 ceramic vessel.

Based on material culture and site organization, LA 66315 has been identified as a Mogollon village occupied between A.D. 900 and 1150.

Continuities between ethnographic materials and technology indicate the affiliation of the two above-mentioned Mogollon sites located in southwestern New Mexico with the Pueblo of Acoma, New Mexico; Hopi Tribe of Arizona; and Zuni Tribe of the Zuni Reservation, New Mexico. The oral traditions of the Pueblo of Acoma, New Mexico; Hopi Tribe of Arizona; and Zuni Tribe of the Zuni Reservation, New Mexico support the cultural affiliation of these three Indian tribes with Mogollon sites in southwestern New Mexico.

Officials of the U.S. Department of Agriculture, Forest Service, Gila National Forest have determined that, pursuant to 25 U.S.C. 3001 (9-10), the human remains described above represent the physical remains of 13 individuals of Native American ancestry. Officials of the U.S. Department of Agriculture, Forest Service, Gila National Forest also have determined that, pursuant to 25 U.S.C. 3001 (3)(A), the 122 objects described above are reasonably believed to have been placed with or near individual human remains at the time of death or later as part of the death rite or ceremony. Lastly, officials of the U.S. Department of Agriculture, Forest Service, Gila National Forest have determined that, pursuant to 25 U.S.C. 3001 (2), there is a relationship of shared group identity that can be reasonably traced between the Native American human remains and associated funerary objects and the Pueblo of Acoma, New Mexico; Hopi Tribe of Arizona; and Zuni Tribe of the Zuni Reservation, New Mexico.

Representatives of any other Indian tribe that believes itself to be culturally affiliated with the human remains and associated funerary objects should contact Dr. Frank E. Wozniak, NAGPRA Coordinator, Southwestern Region, USDA Forest Service, 333 Broadway Blvd., SE, Albuquerque, NM 87102, telephone (505) 842-3238, before April 6, 2009. Repatriation of the human remains and associated funerary objects to the Pueblo of Acoma, New Mexico; Hopi Tribe of Arizona; and Zuni Tribe of the Zuni Reservation, New Mexico may proceed after that date if no additional claimants come forward.

The U.S. Department of Agriculture, Forest Service, Gila National Forest is responsible for notifying the Pueblo of Acoma, New Mexico; Hopi Tribe of Arizona; and Zuni Tribe of the Zuni Reservation, New Mexico that this notice has been published.

Dated: February 20, 2009.
David Tarler,
Acting Manager, National NAGPRA Program.

[FR Doc. E9-4676 Filed 3-4-09; 8:45 am]

BILLING CODE 4312-50-S